DEPARTMENT OF ENERGY

Federal Energy Regulatory Commission

[Docket No. IC04-723-000, FERC-723]

Proposed Information Collection and Request for Comments

April 9, 2004.

AGENCY: Federal Energy Regulatory Commission.

ACTION: Request for Office of Management and Budget Emergency Processing of proposed information collection and request for comments.

SUMMARY: The Federal Energy Regulatory Commission (Commission) is providing notice of its request to the Office of Management and Budget (OMB) for emergency processing of a proposed collection of information in connection with the vegetation management programs of the electric industry, and is soliciting public comment on that information collection.

DATES: The Commission and OMB must receive comments on or before April 14, 2004.

ADDRESSES: Send comments to:

(1) Ruth Solomon, FERC Desk Officer, Office of Information and Regulatory Affairs, Office of Management and Budget. Ms. Solomon may be reached by telephone at (202) 395-7856 or by fax at (202) 395-7285; and

(2) Michael Miller, Office of the Executive Director, ED-30, Federal Energy Regulatory Commission, 888 First Street, NE., Washington, DC 20426. Mr. Miller may be reached by telephone at (202) 502-8415 and by e-mail at michael.miller@ferc.gov.

FOR FURTHER INFORMATION CONTACT: William Longenecker, Office of Markets, Tariffs and Rates, Federal Energy Regulatory Commission. Mr. Longenecker may be reached by telephone at (202) 502-8570 and by e-mail at william.longenecker@ferc.gov.

SUPPLEMENTARY INFORMATION: On April 5, 2004, the Joint United States-Canada Power System Outage Task Force issued the Final Blackout Report. The report found that a major cause of the August 14, 2003, electric power blackout was the failure to adequately maintain vegetation within transmission line rights-of-way. This failure has been a common factor that has contributed to the August 14, 2003, blackout and many previous regional electric system outages.

The Commission intends to immediately issue a directive that requires all entities that own, control or operate designated transmission facilities in the contiguous 48 States, whether or not they are otherwise subject to the Commission's jurisdiction as a public utility, to report on the vegetation management practices they now use for those lines and rights-of-ways.

On August 14, 2003, an electric power blackout occurred over large portions of the Northeast and Midwest United States and Ontario, Canada. The power blackout lasted up to two days in some areas of the United States and for a longer period of time in some areas of Canada. It affected an area with over 50 million people and 61,800 megawatts of electric load. In the wake of the blackout, a joint United States-Canada Task Force (Task Force) undertook a study of the causes of that blackout and possible solutions to avoid future such blackouts.

In November 2003, the Task Force issued an interim report, describing its investigation and findings and identifying the causes of the blackout. The Interim Blackout Report also compared the August 2003 blackout with seven previous major outages and concluded that conductor contact with trees was a common factor among the outages. The Task Force emphasized that vegetation management is critical and that many outages can be mitigated or prevented by managing the vegetation before it becomes a problem.

In March 2004, the Commission made available to the public, a final vegetation management report prepared to support the blackout investigation. The report detailed problems with vegetation management relating to the August 2003 blackout and recommended specific practices that would reduce the likelihood of tree and power line conflicts. The Task Force followed with its final blackout report on April 5, 2004, and verified and supplemented its earlier finding in the Interim Blackout Report.

Each of these reports has suggested that a higher standard of performance of vegetation management is critical to minimizing the risk of regional power outages and ensuring the uninterrupted flow of electricity in the Nation's interconnected bulk electric systems. The Commission believes that a comprehensive inquiry is necessary to further the Commission's oversight over the business of transmitting and selling electricity in interstate commerce and protecting the public interest.

Section 201(a) of the Federal Power Act declares that the business of transmitting and selling electricity in interstate commerce is affected with the public interest and charges the Commission with oversight over these matters. The unanticipated August 14, 2003, blackout had a detrimental impact on the business of transmitting and selling electricity in interstate commerce over a large portion of the United States. Vegetation-caused service interruptions in smaller regions of the Nation are more common and less publicized, but they also have a detrimental impact on the business of transmitting and selling electricity in interstate commerce. Section 311 of the Federal Power Act (16 U.S.C. 825j (2000)) authorizes the Commission to conduct investigations in order to secure information necessary or appropriate as a basis for recommending legislation. Section 311 of the Federal Power Act makes clear that the Commission's authority in conducting an investigation extends to entities that are otherwise not subject to the Commission's jurisdiction “including the generation, transmission, distribution and sale of electric energy by any agency, authority or instrumentality of the United States, or of any State or municipality * * * ” The information collected from this reporting requirement will be reflected in a Commission report to Congress on reliability of the Nation's interstate bulk electric systems, consistent with section 311 of the Federal Power Act.

The possibility of a reoccurrence of a vegetation induced blackout this summer warrants an immediate assessment of the electric industry's vegetation management programs to enable the Commission to inform the Congress and the industry about improvements that might be necessary. The Commission believes the vegetation management report will provide it, the States, the North American Electric reliability Council, reliability coordinators and the Congress with valuable information regarding vegetation management problems. In coordination with the National Association Regulatory Utility Commissioners (NARUC) Critical Infrastructure Protection Ad-Hoc Committee, the Commission will use the information to identify appropriate ways to assure effective vegetation management for electric transmission facilities. Therefore, the ability to collect this information prior to the expiration of the normal OMB 60-day review time frame is essential to the mission of the Commission and as such, the Commission has requested emergency processing of this proposed information collection. The Commission will refer to the reports being requested as FERC-723 “Vegetation Management Reports.” Respondents would provide a one-time-only Report no later than June 17, 2004. The Reports would contain the following information:

Describe in detail the vegetation management practices and standards that the transmission provider uses for control of vegetation near designated transmission lines, and indicate the source of any standard utilized (State law or regulation, historical practice, etc.). Describe the clearance assumptions or definition used for appropriate distance between the vegetation and the line. Indicate how the vegetation management practices treat vegetation that encroaches or might reasonably be expected to encroach due to growth prior to the next inspection in the line clearance zone from below, beside and above the line.

“Designated transmission facilities” are defined, for the purposes of this report only, as lines with a rating of 230 kV or higher as well as tie-line interconnection facilities between control areas or balancing areas (regardless of kV rating), “critical” lines as designated by the regional reliability council and associated transformers. List the facilities under transmission provider control that meet this definition. For each facility identified in item (b) above, indicate how often the transmission provider inspects that facility for vegetation management purposes. Indicate when the most recent survey of that facility was performed, what kind of survey was used (e.g. helicopter overflight, or foot patrol), and further indicate what findings of that survey showed. If the survey led to further action, indicate what action was taken and the date(s) it was performed, and for the facilities identified in item (b) above, indicate whether the identified corrective actions have been completed as of June 14, 2004.

The Commission estimates that it would take each respondent no more than 5 hours to generate the Report. Therefore, the total number of hours it would take to comply with the reporting requirement would be 1,000. The Commission estimates a total cost of $40,000 to respondents at $40 per hour, based on salaries for professional and clerical staff, as well as direct and indirect overhead costs. The Commission has submitted this reporting requirement to OMB for approval. OMB's regulations describe the process that Federal agencies must follow in order to obtain OMB approval of reporting requirement. See 5 CFR part 1320. The standards for emergency processing of information collections appear at 5 CFR 1320.13. If OMB approves a reporting requirement, then it will assign an information collection control number to that requirement. If a request for information subject to OMB review has not been given a valid control number, then the recipient is not required to respond.

OMB requires Federal agencies seeking approval of reporting requirements to allow the public an opportunity to comment on the proposed reporting requirement. 5 CFR 1320.5(a)(1)(iv). Therefore, the Commission is soliciting comment on:

(1) Whether the collection of the information is necessary for the proper performance of the Commission's functions, including whether the information will have practical utility;

(2) The accuracy of the Commission's estimate of the burden of the collection of this information, including the validity of the methodology and assumptions used;

(3) The quality, utility, and clarity of the information to be collected; and

(4) How to minimize the burden of the collection of this information on respondents, including the use of appropriate automated electronic, mechanical, or other forms of information technology.

Linda Mitry,
Acting Secretary.

[FR Doc. 04-8519 Filed 4-13-04; 8:45 am]

BILLING CODE 6717-01-P